DEPARTMENT OF JUSTICE

Notice of Lodging of Consent Decree Under the Comprehensive Environmental Response, Compensation and Liability Act

Notice is hereby given that on October 26, 2009, a proposed Settlement Agreement in In re Hercules Chemical Company, Inc., Case No. 08-27822-MS, was lodged with the United States Bankruptcy Court for the District of New Jersey.

In this action, the United States filed a proof of claim seeking reimbursement for response and natural resource damage assessment costs from the Debtor under the Comprehensive Environmental Response, Compensation, and Liability Act, 42 U.S.C. 9601, et seq., with respect to the Diamond Alkali Superfund Site (the Passaic River Matter) in Newark, NJ. The Settlement Agreement provides that Hercules will provide the United States a general unsecured claim of $200,000.

The Department of Justice will receive for a period of thirty (30) days from the date of this publication comments relating to the Settlement Agreement. Comments should be addressed to the Assistant Attorney General, Environment and Natural Resources Division, and either e-mailed to pubcomment-ees.enrd@usdoj.gov or mailed to P.O. Box 7611, U.S. Department of Justice, Washington, DC 20044-7611, and should refer to In re Hercules Chemical Company, Inc., D.J. Ref. 90-11-3-07683/7.

During the public comment period, the Settlement Agreement, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction costs of the Settlement Agreement) payable to the U.S. Treasury or, if by e-mail or fax, forward a check in that amount to the Consent Decree Library at the stated address.

Maureen Katz,
Assistant Chief, Environmental Enforcement Section, Environment and Natural Resources Division.

[FR Doc. E9-26156 Filed 10-29-09; 8:45 am]

BILLING CODE 4410-15-P